SECURITIES AND EXCHANGE COMMISSION

[Release No. IA-1888]

Designation of NASD Regulation, Inc. To Establish and Maintain the Investment Adviser Registration Depository; Approval of IARD Fees

July 28, 2000.

AGENCY: Securities and Exchange Commission.

ACTION: Notice and order.

SUMMARY: The Commission is designating NASD Regulation, Inc. (NASDR) to establish and maintain a new electronic filing and disclosure system for investment advisers. The new system is called the Investment Adviser Registration Depository (IARD). The Commission is also approving IARD filing fees.

EFFECTIVE DATE: July 28, 2000.

FOR FURTHER INFORMATION CONTACT: Lori H. Price, Senior Counsel, or Karen L. Goldstein, Attorney, 202-942-0716, Task Force on Investment Adviser Regulation, Division of Investment Management, Securities and Exchange Commission, 450 Fifth Street, NW., Washington, DC 20549-0506.

Discussion

In 1996, Congress gave us authority to participate in an electronic system for the registration of investment advisers. Section 203A(d) of the Investment Advisers Act of 1940 (Advisers Act) allows us to require investment advisers to file forms “through any entity designated [by us] for that purpose,” and to “pay the reasonable costs associated with [these] filings.” ¹ The NASDR is building the IARD for us and the North American Securities Administrators Association. The IARD will permit advisers to file with us and the states electronically through the Internet.²

¹ 15 USC 80b-3a(d).

² The IARD will permit advisers to satisfy filing obligations under state and federal laws by making a single electronic filing. Information contained in the filings made through the IARD will be stored in a database that will be publicly accessible through the Internet. We have proposed new rules under the Advisers Act, and amendments to current rules, that would require advisers to submit their filings through the IARD. The release proposing these rules provides further details on how the IARD will work. See Electronic Filing by Investment Advisers; Proposed Amendments to Form ADV, Investment Advisers Act Release No. 1862 (April 5, 2000) [65 FR 20524 (April 17, 2000)].

Today, pursuant to our authority under the Advisers Act, we are designating NASDR as operator of the IARD. NASDR has extensive experience administering the Central Registration Depository (CRD) through which broker-dealers make electronic filings with NASDR, the state securities authorities, and us. NASDR is the self-regulatory organization for broker-dealers.³ In operating the IARD, NASDR will perform certain administrative tasks related to the IARD, but will not act as a self-regulatory organization for advisers.

³ NASDR was established in 1996 as a wholly owned subsidiary of the National Association of Securities Dealers (NASD).

NASDR has submitted to us a schedule of filing fees that it proposes to charge advisers to initially register through the IARD and to file updating annual amendments. Today we are approving these fees. The fees will be used to pay for the operation and maintenance of the IARD. Because larger advisers will make greater use of the system and derive greater benefits, NASDR has proposed that they pay higher fees than smaller advisers. Thus, the filing fee requirements are set in three tiers, based on the amount of an adviser's assets under management. We approve these fees, which follow, as payment by advisers for the reasonable costs associated with using the IARD:

Assets under management | Initial fee | Annual updating fee
More than $100 million | $1,100 | $550
$25 million to $100 million | 800 | 400
Less than $25 million | 150 | 100

It Is Therefore Ordered, pursuant to section 203A(d) of the Investment Advisers Act of 1940, that:

(1) NASD Regulation, Inc. is designated as the entity to accept electronic and such other filings that our rules require to be filed through the Investment Adviser Registration Depository; and

(2) The proposed filing fees described above are approved.

Dated: July 28, 2000.
By the Commission.
Margaret H. McFarland,
Deputy Secretary.

[FR Doc. 00-19673 Filed 8-2-00; 8:45 am]

BILLING CODE 8010-01-P